DEPARTMENT OF AGRICULTURE

Office of the Secretary

Notice of the National Agricultural Research, Extension, Education, and Economics Advisory Board Meeting

AGENCY: Research, Education, and Economics, USDA.

ACTION: Notice of meeting.

SUMMARY: In accordance with the Federal Advisory Committee Act, 5 U.S.C. App., the United States Department of Agriculture announces a meeting of the National Agricultural Research, Extension, Education, and Economics Advisory Board.

SUPPLEMENTARY INFORMATION: The National Agricultural Research, Extension, Education, and Economics Advisory Board, which represents 30 constituent categories, as specified in section 802 of the Federal Agriculture Improvement and Reform Act of 1996 (Pub. L. 104-127), has scheduled a National Agricultural Research, Extension, Education, and Economics Advisory Board general meeting and focus session from March 28, 2002—March 29, 2002. This meeting is entitled, Food and Agriculture Biosecurity: Research and Education Implications. It will be held at the Washington Court Hotel in Washington, DC. Also, a pre-meeting reception with special guest speakers, including the President of the Council of Scientific Society Presidents, Dr. Martin Apple, will be held the evening of Wednesday March 27 from 7-8 p.m. at the same location.

On Thursday, March 28, 2002, the morning session will begin with opening remarks by the Chair of the Advisory Board, Dr. Victor Lechtenberg. Dr. Michael Osterholm, Director of the Center for Infectious Disease Research and Policy, University of Minnesota, will provide the keynote address. The Deputy Secretary of Agriculture, Jim Moseley, has been invited to provide an overview on Food and Agricultural Biosecurity at USDA. Additional remarks on USDA's key research activities will be given by Dr. Joseph Jen, Under Secretary for Research, Education, and Economics. There will also be a panel on “Homeland Security in USDA Agencies,” followed by a panel on “Preparedness Plans.” A mid-afternoon panel at 3 p.m. will address “Biosecurity Education and Protection for the American Public.” The floor will be open to the public, as time permits, prior to the day's adjournment. A buffet reception with be held that evening (Thursday, March 28) from 5:30 p.m.—7:30 p.m. with an invited guest speaker from the Office of Homeland Security.

On Friday, March 29, 2002, the Advisory Board will reconvene with a panel that addresses “Biosecurity in the Food and Agriculture Industries Involved in the Food Supply Chain,” and include topics such as grain handling and transportation, meat production, food processing, retail, food service, and fresh produce. Dr. John Marburger, Director of the Office of Science and Technology Policy, Executive Office of the President, has been invited to speak during lunch on high priority research and development issues, interagency collaborations, and public and private sector partnerships with regard to homeland security in food and agriculture. The afternoon panel session focuses on “Research Implications for Biosecurity.” Guest speakers at this meeting are representative of the broad food and agriculture stakeholder community across the country. Prior to the wrap up of the meeting and as time permits, the floor will be open for public comments. The Board will discuss in detail findings of this 2-day meeting on Food and Agriculture Biosecurity and begin to develop research and education recommendations that will be tendered as advice to the Secretary of Agriculture. Written comments will be accepted at the USDA Advisory Board Office for public record up to 2 weeks following the Board meeting.

This meeting is open to all individuals without regard to race, color, religion, sex, national origin, age, mental or physical handicap, marital status, or sexual orientation. Should an attendee at this meeting require any special needs, please contact the USDA Research, Education, and Economics Advisory Board Office cited below.

DATES:

March 27 7 p.m. to 8 p.m.—Pre-Meeting Reception with Guest Speaker

March 28 8:30 a.m. to 4:15 p.m.—Focus Session

March 28 4:15 p.m. to 4:30 p.m.—Public Comments and Adjournment for the Day

March 28 5:30 p.m. to 7:30 p.m.—Working Reception with Guest Speaker

March 29 8 a.m. to 12 noon—Advisory Board Meeting and Focus Session

March 29 12 noon to 1:15 p.m.—Working Lunch with Guest Speaker

March 29 1:15 p.m. to 3 p.m.—Focus Session and Discussion

March 29 3 p.m. to 3:45 p.m.—Public Comments, Wrap-up and Recommendations, and Adjournment of Meeting

Place: Washington Court Hotel, 525 New Jersey Avenue, NW, Washington, D.C.; Atrium Ballroom and Executive Room (Receptions Only).

Type of Meeting: Open to the Public.

Comments: The public may file written comments before or up to two weeks after the meeting with the contact person. All statements will become a part of the official records of the National Agricultural Research, Extension, Education, and Economics Advisory Board and will be kept on file for public review in the Office of the Advisory Board; Research, Education, and Economics; U.S. Department of Agriculture; Washington, DC 20250-2255.

FOR FURTHER INFORMATION CONTACT: Deborah Hanfman, Executive Director, National Agricultural Research, Extension, Education, and Economics Advisory Board; Research, Education, and Economics Advisory Board Office; Room 344-A, Jamie L. Whitten Building; U.S. Department of Agriculture; STOP: 2255, 1400 Independence Avenue, SW.,; Washington, DC 20250-2255; Telephone: 202-720-3684; Fax: 202-720-6199; or e-mail: SMORGAN@reeusda.gov. Done at Washington, DC, this 26th day of February 2002.

Joseph J. Jen,
Under Secretary, Research, Education, and Economics.

[FR Doc. 02-6207 Filed 3-14-02; 8:45 am]

BILLING CODE 3410-22-P